DEPARTMENT OF TRANSPORTATION

Federal Aviation Administration

14 CFR Part 71

[Docket No. FAA-2022-0025; Airspace Docket No. 21-ACE-2]

RIN 2120-AA66

Proposed Amendment of Multiple Air Traffic Service (ATS) Routes and Establishment of Area Navigation (RNAV) Routes in the Vicinity of Liberal, KS

AGENCY: Federal Aviation Administration (FAA), DOT.

ACTION: Notice of proposed rulemaking (NPRM).

SUMMARY: This action proposes to amend Jet Routes J-19, J-20, J-52, J-98, J-134, and J-231; amend RNAV route Q-176; amend VHF Omnidirectional Range (VOR) Federal airways V-210, V-234, V-304, V-350, and V-507; and establish Area Navigation (RNAV) routes T-418 and T-431. The FAA is proposing this action due to the planned decommissioning of the VOR portion of the Liberal, KS, VOR/Tactical Air Navigation (VORTAC) navigational aid (NAVAID). The Liberal VOR is being decommissioned in support of the FAA's VOR Minimum Operational Network (MON) program.

DATES: Comments must be received on or before March 21, 2022.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2022-0025; Airspace Docket No. 21-ACE-2 at the beginning of your comments. You may also submit comments through the internet at https://www.regulations.gov.

FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783. FAA Order JO 7400.11F is also available for inspection at the National Archives and Records Administration (NARA). For information on the availability of FAA Order JO 7400.11F at NARA, email: fr.inspection@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System (NAS) as necessary to preserve the safe and efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2022-0025; Airspace Docket No. 21-ACE-2) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2022-0025; Airspace Docket No. 21-ACE-2.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Operations Support Group, Central Service Center, Federal Aviation Administration, 10101 Hillwood Parkway, Fort Worth, TX, 76177.

Availability and Summary of Documents for Incorporation by Reference

This document proposes to amend FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

Background

The FAA is planning to decommission the Liberal, KS, VOR in September 2022. The Liberal VOR was one of the candidate VORs identified for discontinuance by the FAA's VOR MON program and listed in the Final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082.

Although the VOR portion of the Liberal VORTAC is planned for decommissioning, the co-located Distance Measuring Equipment (DME) portion of the NAVAID is being retained to support NextGen PBN flight procedure requirements.

The air traffic service (ATS) routes effected by the Liberal VOR decommissioning are Jet Routes J-19, J-20, J-52, J-98, J-134, and J-231; RNAV route Q-176; and VOR Federal airways V-210, V-234, V-304, V-350, and V-507. With the planned decommissioning of the Liberal VOR, the remaining ground-based NAVAID coverage in the area is insufficient to enable the continuity of the affected ATS routes. As such, proposed modifications to J-20, J-52, J-134,V-210, and V-234 would result in a gap being created in the ATS routes; to J-19, J-98, J-231, V-304, V-350, and V-507 would result in the airway being shortened; and to Q-176 would result in two route points listed as NAVAIDs being redefined as waypoints (WPs). To overcome the proposed modifications to the affected ATS routes, instrument flight rules (IFR) traffic could use portions of adjacent ATS routes, including J-8, J-18, J-26, J-96, J-168, and Q-176 in the high altitude enroute structure and V-10, V-17, V-81, and V-190 in the low altitude enroute structure, or receive air traffic control (ATC) radar vectors to fly around or through the affected area. Additionally, pilots equipped with RNAV capabilities could also navigate point to point using the existing NAVAIDs and fixes that would remain in place to support continued operations though the affected area. Visual flight rules (VFR) pilots who elect to navigate via the affected ATS routes could also take advantage of the adjacent ATS routes or ATC services listed previously.

Further, the FAA proposes to establish RNAV route T-418 between the Lamar, CO, VOR/DME and Mitbee, OK, VORTAC and T-431 between the KENTO, NM, WP being established in northeastern New Mexico and the RREDD, KS, WP being established in the vicinity of the Makato, KS, VORTAC. The new T-routes would, in part, mitigate the proposed removal of airway segments affected by the planned Liberal VOR decommissioning, reduce ATC sector workload and complexity, and reduce pilot-to-controller communication. The new routes would also increase NAS capacity in the route's vicinity and assist ATC when non-radar procedures are required due to frequent radar outages west of the Liberal, KS, VORTAC. Finally, the new T-routes would provide airspace users equipped with RNAV ATS routes that support the FAA's NextGen efforts to modernize the NAS navigation system from a ground-based system to a satellite-based system.

The Proposal

The FAA is proposing an amendment to 14 CFR part 71 to amend Jet Routes J-19, J-20, J-52, J-98, J-134, and J-231; amend RNAV route Q-176; amend VOR Federal airways V-210, V-234, V-304, V-350, and V-507; and establish RNAV routes T-418 and T-431 due to the planned decommissioning of the Liberal, KS, VOR. The proposed ATS route actions are described below.

J-19: J-19 currently extends between the Phoenix, AZ, VORTAC and the Northbrook, IL, VOR/Distance Measuring Equipment (VOR/DME). The FAA proposes to remove the route segment between the Phoenix, AZ, VORTAC and the St. Louis, MO, VORTAC. The route segment between the Phoenix, AZ, VORTAC and the Zuni, NM, VORTAC is proposed to be removed as it overlaps J-244, which will remain. The route segment between the Zuni, NM, VORTAC and the Fort Union, NM, VORTAC is proposed to be removed since J-244 provides a shorter, more efficient routing between the two NAVAIDs, as well as, the portion of that route segment between the intersection of the Zuni, NM, VORTAC 059° and Fort Union, NM, VORTAC 268° radials (BUKKO fix) and the Fort Union, NM, VORTAC overlaps J-8, which will remain. The route segment overlying the Liberal VORTAC between the Fort Union, NM, VORTAC and the Wichita, KS, VORTAC is proposed to be removed due to the planned Liberal VOR decommissioning. Finally, the route segment between the Wichita, KS, VORTAC and the St. Louis, MO, VORTAC is proposed to be removed as it overlaps J-134 completely and J-110 between the Butler, MO, VORTAC and St. Louis, MO, VORTAC. The unaffected portions of the existing route would remain as charted.

J-20: J-20 currently extends between the Seattle, WA, VORTAC and the Montgomery, AL, VORTAC. The FAA proposes to remove the route segment overlying the Liberal VORTAC between the Lamar, CO, VOR/DME and the Will Rogers, OK, VORTAC. Additional changes to other portions of the route have been proposed in a separate NPRM. The unaffected portions of the existing route would remain as charted.

J-52: J-52 currently extends between the Vancouver, BC, Canada VOR/DME and the Vulcan, AL, VORTAC; and between the intersection of the Columbia, SC, VORTAC 042° and Flat Rock, VA, VORTAC 212° radials (TUBAS fix) and the Richmond, VA, VORTAC. The portion within Canada is excluded. The FAA proposes to remove the route segment overlying the Liberal VORTAC between the Lamar, CO, VOR/DME and the Ardmore, OK, VORTAC. The unaffected portions of the existing route would remain as charted.

J-98: J-98 currently extends between the Liberal, KS, VORTAC and the Farmington, MO, VORTAC. The FAA proposes to remove the route segment overlying the Liberal VORTAC between the Liberal, KS, VORTAC and the Mitbee, OK, VORTAC. The unaffected portions of the existing route would remain as charted.

J-134: J-134 currently extends between the Los Angeles, CA, VORTAC and the Falmouth, KY, VOR/DME. The FAA proposes to remove the route segment overlying the Liberal VORTAC between the Cimarron, NM, VORTAC and the Wichita, KS, VORTAC. The unaffected portions of the existing route would remain as charted.

J-231: J-231 currently extends between the Twentynine Palms, CA, VORTAC and the Liberal, KS, VORTAC. The FAA proposes to remove the route segment overlying the Liberal VORTAC between the Anton Chico, NM, VORTAC and Liberal, KS, VORTAC. The unaffected portions of the existing route would remain as charted.

Q-176: Q-176 currently extends between the Cimarron, NM, VORTAC and the OTTTO, VA, WP. The FAA proposes to replace the Liberal, KS, VORTAC and the Wichita, KS, VORTAC route points with the TOTOE, KS, WP and the WRIGL, KS, WP, respectively. The two new WPs are being established in the immediate vicinity of the NAVAIDs they are proposed to replace. Additionally, the FAA proposes to change the type of the GBEES route point from “FIX” to “WP” to match the FAA's aeronautical database information and charted depiction. The unaffected portions of the existing route would remain as charted.

V-210: V-210 currently extends between the Los Angeles, CA, VORTAC and the Okmulgee, OK, VOR/DME; between the Brickyard, IN, VORTAC and the Rosewood, OH, VORTAC; and between the Revloc, PA, VOR/DME and the Yardley, PA, VOR/DME. The FAA proposes to remove the airway segment overlying the Liberal VORTAC between the Lamar, CO, VOR/DME and the Will Rogers, OK, VORTAC. The unaffected portions of the existing airway would remain as charted.

V-234: V-234 currently extends between the St. Johns, AZ, VORTAC and the Centralia, IL, VORTAC. The airspace at and above 8,000 feet MSL between the Vichy, MO, VOR/DME and the intersection of the Vichy, MO, VOR/DME 091° and St. Louis, MO, VORTAC 171° radials is excluded when the Meramec Military Operations Area (MOA) is activated by NOTAM. The FAA proposes to remove the airway segment overlying the Liberal VORTAC between the Dalhart, TX, VORTAC and the Hutchinson, KS, VOR/DME. Additionally, the Meramec MOA no longer exists; therefore, the exclusion language in the airway description would also be removed. The unaffected portions of the existing airway would remain as charted.

V-304: V-304 currently extends between the Panhandle, TX, VORTAC and the Lamar, CO, VOR/DME. The FAA proposes to remove the airway segment overlying the Liberal VORTAC between the Borger, TX, VORTAC and the Lamar, CO, VOR/DME. Additional changes to other portions of the route have been proposed in a separate NPRM which would result in the proposed removal of V-304 in its entirety.

V-350: V-350 currently extends between the Liberal, KS, VORTAC and the Chanute, KS, VORTAC. The airspace at and above 6,000 feet MSL from 8 NM to 54 NM west of Chanute VOR is excluded when the Eureka High MOA is activated. The FAA proposes to remove the airway segment overlying the Liberal VORTAC between the Liberal, KS, VORTAC and the Wichita, KS, VORTAC. The unaffected portions of the existing airway would remain as charted.

V-507: V-507 currently extends between the Ardmore, OK, VORTAC and the Garden City, KS, VORTAC. The FAA proposes to remove the airway segment overlying the Liberal VORTAC between the Mitbee, OK, VORTAC and the Garden City, KS, VORTAC. The unaffected portions of the existing airway would remain as charted.

T-418: T-418 is a new RNAV route proposed to extend between the Lamar, CO, VOR/DME and the Mitbee, OK, VORTAC. This new T-route would mitigate the proposed removal of the V-210 airway segment between the Lamar, CO, VOR/DME and Liberal, KS, VORTAC and the proposed removal of the V-507 airway segment between the Liberal, KS, VORTAC and Mitbee, OK, VORTAC. The new T-route would provide RNAV routing capability from the Lamar, CO, area, southeastward to the Gage, OK, area.

T-431: T-431 is a new RNAV route proposed to extend between two new WPs being established; the KENTO, NM, WP and the RREDD, KS, WP. This T-route would provide non-radar routing from northeastern New Mexico eastward to the Liberal, KS, VORTAC area to address frequent radar outages and support the general aviation community in the area, as well as provide RNAV routing between the Liberal, KS, VORTAC area and the Mankato, KS, VORTAC area. The new T-route would provide RNAV routing capability from the northeastern New Mexico area northeastward to the Mankato, KS, area.

All NAVAID radials listed in the ATS route descriptions below are unchanged and stated in True degrees.

Jet Routes are published in paragraph 2004, RNAV Q-routes are published in paragraph 2006, VOR Federal airways are published in paragraph 6010(a), and RNAV T-routes are published in paragraph 6011 of FAA Order JO 7400.11F, dated August 10, 2021, and effective September 15, 2021, which is incorporated by reference in 14 CFR 71.1. The ATS routes listed in this document would be published subsequently in FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 2004 Jet Routes.

* * * * *

J-19 [Amended]

From St. Louis, MO; Roberts, IL; to Northbrook, IL.

* * * * *

J-20 [Amended]

From Seattle, WA; Yakima, WA; Pendleton, OR; Donnelly, ID; Pocatello, ID; Rock Springs, WY; Falcon, CO; Hugo, CO; to Lamar, CO. From Will Rogers, OK; Belcher, LA; Magnolia, MS; Meridian, MS; to Montgomery, AL.

* * * * *

J-52 [Amended]

From Vancouver, BC, Canada; Spokane, WA; Salmon, ID; Dubois, ID; Rock Springs, WY; Falcon, CO; Hugo, CO; to Lamar, CO. From Ardmore, OK; Texarkana, AR; Sidon, MS; Bigbee, MS; to Vulcan, AL. From INT Columbia, SC, 042° and Flat Rock, VA, 212° radials; Raleigh-Durham, NC; to Richmond, VA. The portion within Canada is excluded.

* * * * *

J-98 [Amended]

From Mitbee, OK; Will Rogers, OK; Tulsa, OK; Springfield, MO; to Farmington, MO.

* * * * *

J-134 [Amended]

From Los Angeles, CA; Seal Beach, CA; Thermal, CA; Parker, CA; Drake, AZ; Gallup, NM; to Cimarron, NM. From Wichita, KS; Butler, MO; St Louis, MO; to Falmouth, KY.

* * * * *

J-231 [Amended]

From Twentynine Palms, CA; INT Twentynine Palms 075° and Drake, AZ, 262° radials; Drake; INT Drake 111° and St. Johns, AZ, 268° radials; St. Johns; to Anton Chico, NM.

* * * * *

2006 United States Area Navigation Routes.

* * * * *

Q-176 Cimarron, NM (CIM) to OTTTO, VA [Amended]
Cimarron, NM (CIM) | VORTAC | (Lat. 36°29′29.03″ N, long. 104°52′19.20″ W)
KENTO, NM | WP | (Lat. 36°44′19.10″ N, long. 103°05′57.13″ W)
TOTOE, KS | WP | (Lat. 37°02′40.21″ N, long. 100°58′16.87″ W)
WRIGL, KS | WP | (Lat. 37°44′42.79″ N, long. 097°35′02.52″ W)
Butler, MO (BUM) | VORTAC | (Lat. 38°16′19.49″ N, long. 094°29′17.74″ W)
St Louis, MO (STL) | VORTAC | (Lat. 38°51′38.48″ N, long. 090°28′56.52″ W)
GBEES, IN | WP | (Lat. 38°41′54.72″ N, long. 085°10′13.03″ W)
BICKS, KY | WP | (Lat. 38°38′29.92″ N, long. 084°25′20.82″ W)
Henderson, WV | (HNN) DME | (Lat. 38°45′14.85″ N, long. 082°01′34.20″ W)
OTTTO, VA | WP | (Lat. 38°51′15.81″ N, long. 078°12′20.01″ W)

* * * * *

Paragraph 6010(a) Domestic VOR Federal Airways.

* * * * *

V-210 [Amended]

From Los Angeles, CA; INT Los Angeles 083° and Pomona, CA, 240° radials; Pomona; INT Daggett, CA, 229° and Hector, CA, 263° radials; Hector; Goffs, CA; 13 miles, 23 miles 71 MSL, 85 MSL, Peach Springs, AZ; Grand Canyon, AZ; Tuba City, AZ; 10 miles 90 MSL, 91 miles 105 MSL, Rattlesnake, NM; Alamosa, CO; INT Alamosa 074° and Lamar, CO, 250° radials; 40 miles, 51 miles 65 MSL, to Lamar. From Will Rogers, OK; INT Will Rogers 113° and Okmulgee, OK, 238° radials; to Okmulgee. From Brickyard, IN; Muncie, IN; to Rosewood, OH. From Revloc, PA; INT Revloc 096° and Harrisburg, PA, 285° radials; Harrisburg; Lancaster, PA; INT Lancaster 095° and Yardley, PA, 255° radials; to Yardley.

* * * * *

V-234 [Amended]

From St. Johns, AZ; INT St. Johns 085° and Albuquerque, NM, 229° radials; Albuquerque; INT Albuquerque 103° and Anton Chico, NM, 249° radials; Anton Chico; to Dalhart, TX. From Hutchinson, KS; Emporia, KS; Butler, MO; Vichy, MO; INT Vichy 091° and Centralia, IL, 253° radials; to Centralia.

* * * * *

V-304 [Amended]

From Panhandle, TX; to Borger, TX.

* * * * *

V-350 [Amended]

From Wichita, KS; to Chanute, KS. The airspace at and above 6,000 feet MSL from 8 NM to 54 NM west of Chanute VOR is excluded during the time that the Eureka High MOA is activated.

* * * * *

V-507 [Amended]

From Ardmore, OK; Will Rogers, OK; INT Will Rogers 284° and Mitbee, OK, 152° radials; to Mitbee.

* * * * *

Paragraph 6011 United States Area Navigation Routes.

* * * * *

T-418 Lamar, CO (LAA) to Mitbee, OK (MMB) [New]
Lamar, CO (LAA) | VOR/DME | (Lat. 38°11′49.53″ N, long. 102°41′15.12″ W)
TOTOE, KS | WP | (Lat. 37°02′40.21″ N, long. 100°58′16.87″ W)
Mitbee, OK (MMB) | VORTAC | (Lat. 36°20′37.44″ N, long. 099°52′48.44″ W)

* * * * *

T-431 KENTO, NM to RREDD, KS [New]
KENTO, NM | WP | (Lat. 36°44′19.10″ N, long. 103°05′57.13″ W)
TOTOE, KS | WP | (Lat. 37°02′40.21″ N, long. 100°58′16.87″ W)
MOZEE, KS | WP | (Lat. 38°50′51.20″ N, long. 099°16′35.85″ W)
RREDD, KS | WP | (Lat. 39°48′22.62″ N, long. 098°15′36.62″ W)

Issued in Washington, DC, on January 27, 2022.
Michael R. Beckles,
Manager, Rules and Regulations Group.

[FR Doc. 2022-02025 Filed 2-1-22; 8:45 am]

BILLING CODE 4910-13-P